DEPARTMENT OF TRANSPORTATION

Federal Motor Carrier Safety Administration

49 CFR Parts 390 and 391

[Docket No. FMCSA-2008-0363]

RIN 2126-AA97

National Registry of Certified Medical Examiners

AGENCY: Federal Motor Carrier Safety Administration, Transportation.

ACTION: Request for public comments.

SUMMARY: In accordance with the Paperwork Reduction Act of 1995, the Federal Motor Carrier Safety Administration (FMCSA) is making available for public comment a modification of the proposed information collection request (ICR) related to the notice of proposed rulemaking (NPRM) for the National Registry of Certified Medical Examiners (NRCME) published on December 1, 2008. In the comments on the NPRM, a commenter inquired as to what a motor carrier had to do to verify that a medical examiner's certificate had been issued to a commercial motor vehicle driver by a medical examiner listed on the proposed NRCME. In response to this and other comments, FMCSA is considering whether to require employers to verify that the medical examiner is listed and to place a record of such verification in the driver qualification file. This document is to inform the public that a modified ICR that includes this verification requirement under consideration is available for public comment. The other information collection requirements were made available for public comments at the same time as the NPRM. Therefore, comments will only be considered in response to this document with respect to the information collection aspects of the verification requirements under consideration by the Agency. Comments on the other information collection requirements proposed with the NPRM will not be considered.

DATES: Comments and related material must be submitted on or before May 16, 2011.

ADDRESSES: You may submit comments identified by docket number FMCSA-2008-0363 using any one of the following methods:

• Federal eRulemaking Portal: http://www.regulations.gov.

• Fax: 202-493-2251.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Comments must also be submitted to the Office of Information and Regulatory Affairs, Office of Management and Budget, New Executive Office Building, Room 10202, 725 17th Street, NW., Washington, DC 20053, Attention: Desk Officer for the Department of Transportation.

FOR FURTHER INFORMATION CONTACT: Elaine Papp, Physical Qualifications Division, Federal Motor Carrier Safety Administration, 1200 New Jersey Ave., SE., Washington, DC 20590-0001. Telephone: (202) 366-4001. E-mail: fmcsamedical@dot.gov.

SUPPLEMENTARY INFORMATION: The Federal Motor Carrier Safety Administration (FMCSA) is making available for public comment a modification of the proposed information collection request (ICR) related to the notice of proposed rulemaking (NPRM) for the National Registry of Certified Medical Examiners (NRCME) published on December 1, 2008 (73 FR 73129). Other information collection requirements were made available for public comments in the same issue as the NPRM (see 73 FR at 73140-42).

Public Participation and Request for Comments: We encourage you to submit comments on the modification to the Information Collection Request related to the proposed NRCME. All comments received will be posted, without change, to http://www.regulations.gov and will include any personal information you have provided.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Title: National Registry of Certified Medical Examiners (NRCME).

Summary: The Secretary of Transportation is required to establish and maintain a national registry of medical examiners that are qualified to perform examinations and issue medical certificates that verify whether a CMV driver's physical qualifications meet FMCSA standards. In addition, medical examinations of CMV operators will be performed by MEs who have received training in physical and medical examination standards, and, after the NRCME is established, are listed on the NRCME. 49 U.S.C. 31136(a)(3) and 31149. Once the NRCME Program is implemented, FMCSA will accept medical examinations performed only by certified MEs listed on the NRCME, as required by law.

Several new proposed information collection requirements related to the proposed NRCME were described in the Notice of Proposed Rulemaking published on December 1, 2008. In each case, the relationship of the proposed information collection to the proposals in the NPRM was explained, and an estimate of the information collection burden was provided. An opportunity to provide public comment on those requirements and the estimated burden, as required by the Paperwork Reduction Act, was made available at that time. FMCSA, in response to comments on the proposed rule, is considering whether to include an additional information collection requirement that would be a substantial modification of the information collection requirements involved. The provision under consideration would require employers of CMV drivers to verify the National Registry Number of the ME for each driver required to be examined by an ME on the National Registry, and place a note relating to verification in the driver qualification file. This information collection requirement provides proof the employer has met its obligation to require drivers to comply with the regulations that apply to the driver (49 U.S.C. 31135[a] and 49 CFR 390.11).

Respondents (Including the Number of): The likely respondents to this proposed information requirement are the 1,193,083 employers of the 7,000,000 CMV drivers required to obtain medical certificates. In any given year, FMCSA estimates that approximately 4,600,00 CMV drivers will respond and provide their certificates to their employers.

Frequency: FMCSA estimates that approximately 4,622,925 verifications and recordkeeping actions will be performed by employers each year.

Annual Burden Estimate: This proposal would result in an annual recordkeeping and reporting burden as follows:

We estimate it will take motor carrier administrative personnel 4 minutes to verify the National Registry Number, write a note regarding the verification, and file the note in the driver qualification file, so this will require approximately 308,195 hours of administrative personnel time on a yearly basis (4,622,925 verifications × 4 minutes/60 minutes per verification = 308,195 hours).

The total estimated annual recordkeeping and time burden for all information collections related to the physical qualification requirements is approximately 2,092,243 hours.

Any comments submitted in response to this notice will be summarized in the request for OMB approval. All comments will also become a matter of public record.

Dated: March 8, 2011.
Kelly Leone,
Associate Administrator and Chief Information Officer, Research and Information Technology, Director, Information Technology and Deputy CIO, FMCSA.

[FR Doc. 2011-5885 Filed 3-15-11; 8:45 am]

BILLING CODE 4910-EX-P